DEPARTMENT OF LABOR

Employment and Training Administration

Notice of Availability of Funds and Solicitation for Grant Applications (SGA) for Cooperative Agreements Under the Disability Employment Initiative

AGENCY: Employment and Training Administration, U.S. Department of Labor (DOL, the Department, or Labor).

Announcement Type: Notice of Solicitation for Grant Applications (SGA).

Funding Opportunity Number: SGA-DFA-PY-10-01.

Catalog of Federal Domestic Assistance Number (CFDA): 17.207.

Key Dates: The closing date for receipt of applications under this announcement is September 8, 2010. Applications must be received no later than 4 p.m. Eastern Time.

SUMMARY: The Employment and Training Administration (ETA), in coordination with DOL's Office of Disability Employment Policy (ODEP), announces the availability of approximately $22 million for cooperative agreements to state Workforce Investment Act (WIA) administering entities. The Combined Appropriation Act of 2010, Division D of Public Law 111-117, included $12 million in funds to ETA and $12 million to ODEP to develop and implement a plan for improving effective and meaningful participation of persons with disabilities in the workforce. This funding is being used to implement the Disability Employment Initiative (DEI), under which the Department intends to make 6 to 10 grant awards that are designed to: (1) Improve educational, training, and employment opportunities and outcomes of youth and adults with disabilities who are unemployed, underemployed and/or receiving Social Security disability benefits; and (2) help these individuals with disabilities find a path into the middle class through exemplary and model service delivery by the public workforce system. DEI grants will be awarded for a three year period of performance. Grants will be issued as cooperative agreements with the expectation that there will be considerable engagement by ETA and ODEP with states and their local workforce investment areas throughout the life of the Initiative. Extensive technical assistance will be available to grantees and an independent evaluation of the projects will be conducted utilizing quantitative and qualitative data from grantees.

The Appropriation Committee Senate Report 111-66 on H.R. 3292 stated that:

“these funds * * * will improve the accessibility and accountability of the public workforce development system for individuals with disabilities. The Committee further expects these funds to continue promising practices implemented by disability program navigators, including effective deployment of staff in selected States to: improve coordination and collaboration among employment and training and asset development programs carried out at a State and local level, including the Ticket to Work program and build effective community partnerships that leverage public and private resources to better serve individuals with disabilities and improve employment outcomes.”

This solicitation provides background information and describes the application submission requirements, outlines the process that eligible entities must use to apply for funds covered by this solicitation, and outlines the evaluation criteria used as a basis for selecting the grantees.

ADDRESSES: Mailed applications must be addressed to the U.S. Department of Labor, Employment and Training Administration, Division of Federal Assistance, Attention: B. Jai Johnson, Grant Officer, Reference SGA-DFA PY 10-01, 200 Constitution Avenue, NW., Room N-4716, Washington, DC 20210. For complete application and submission information, please refer to Section IV.

Background: Previous DOL grants to improve employment outcomes of individuals with disabilities through systems change in the public workforce system include ETA's Work Incentive Grants, the Disability Program Navigator Initiative, and Employment Service Models such as ODEP's Customized Employment, Workforce Action (Olmstead), the START-UP Initiative, and State Intermediary Youth grants. These DOL grants demonstrated a number of promising practices that are incorporated in this SGA. In addition, numerous other successful employment service models have been developed in Federal, State and local systems.

Systems Change Models. From PY 2000 through 2010, DOL/ETA funded 65 Work Incentive Grants (WIG) and 51 Disability Program Navigator (DPN) Initiative cooperative agreements to states, the District of Columbia, Puerto Rico, Guam and the Virgin Islands to improve services in the One-Stop Career Center system and improve employment outcomes of persons with disabilities. The WIGs were competitively awarded to state and local workforce areas that addressed systemic issues in the workforce system and resulted in the development of numerous tools and protocols to improve services to job seekers with disabilities. By 2003, DOL had focused all WIG funds on supporting a full-time, dedicated staff person with disability expertise because this strategy has shown promise in expanding the capacity of the One-Stop Career Center system by providing integrated, accessible, and comprehensive services and promoting career and employment outcomes of individuals with disabilities. All WIG funds were subsequently directed to the support of the DPN Initiative. The DPNs or Navigators were located in local workforce investment areas to: (1) Conduct outreach to the disability community; (2) promote meaningful and effective access to the One-Stop Career Center system; (3) establish linkages to employers to increase job opportunities; and (4) create systemic change through ongoing partnerships and comprehensive, wrap around services for job seekers with disabilities, including integrated resource teams to blend, braid, and leverage resources across workforce and disability systems. The DPN Initiative has created innovation and transformation in the public workforce system by: Building relationships with state and local partners; facilitating youth transition services; promoting asset development and financial literacy training; implementing the Ticket to Work Program; building upon Medicaid Infrastructure Grants; and linking to other community providers.

Employment Service Models. A number of employment service models are being used in Federal and state service systems, including the traditional Vocational Rehabilitation, Supported Employment, Transitional Employment, Self-Employment, and various forms of self-direction that provide control and choice to the individual job seeker. These models may be effective for job seekers and should be available in the workforce system, and all complement and reinforce the WIG/DPN successful strategies with One-Stop Career Centers.

For example, from 2001 through 2006, ODEP funded development and research work on Customized Employment in the One-Stop Career Centers through ODEP initiatives in 26 grants around the country. Overall, these projects were expected to increase the capacity of service-delivery systems to effectively serve people with disabilities and other “hard-to-serve” populations through individualized employment and placement services. Several key findings resulted from this initiative: (1) Partnership and collaboration were essential to systems change; (2) the design of environments, products, and communication practices and the delivery of programs, services, and activities that meet the needs of all customers of the system (“universal design strategies”) were fundamental to improving access to the programs and services of the workforce development system; (3) leveraging expertise and resources across both generic and disability-specific systems through integrating funds helped maximize opportunities for individuals and the ultimate outcomes obtained; (4) asset development strategies (e.g., tax incentives, financial education, work incentives) that enhance the economic advantages of employment for people with disabilities; (5) access to flexible dollars supported unique employment-related needs of individual participants; and (6) the customized approach shows promise for improving employment outcomes and wages for individuals with significant disabilities and others with complex barriers to employment.

The Workforce Action grants built capacity within the workforce system to provide employment services for individuals transitioning from institutions and other segregated environments. ODEP has also documented the viability of self employment for people with disabilities, including those with significant disabilities who receive SSI or SSDI benefits, through its national self-employment initiative, START-UP. This initiative resulted in the establishment of a range of businesses by individuals with disabilities. Information on all of the employment service models mentioned above is readily available to the public.

In 2003, State Intermediary Grants, a promising youth transition model, were awarded to eight states. These grants assisted states, under the leadership of the State WIB, in the design, implementation, and evaluation of systems changes needed to improve transition outcomes for youth with disabilities at the local level. ODEP's State Intermediary grantees focused on closing the substantial gap between education and employment outcomes for youth with disabilities and those of their peers without disabilities. ODEP's research indicates that all youth, including those with disabilities, need exposure to the following five educational and career development interventions, which ODEP has branded as the Guideposts for Success: (1) School-based preparatory experiences; (2) career preparation and work-based learning experiences; (3) youth development and leadership; (4) connecting activities, including knowledge of transportation, health care, and financial planning; and (5) family involvement and support.

In addition to articulating the general needs of all youth, Guideposts for Success also addresses the specific needs of youth with disabilities within each of the five categories. As a result of the grants, both state and local level organizations began to more effectively coordinate services for youth with disabilities through the use of the Guideposts for Success. Many youth with disabilities who had not previously received transition services through One-Stop Career Centers and other sources were provided such services. In addition, State and local level intermediaries provided training that enabled many organizations and individuals to become knowledgeable about services and resources available to youth with disabilities. The grants demonstrated that intermediaries can serve a key function by helping to define roles within a partnership and in deciding the level at which issues should be addressed and problems resolved. Research indicates that if youth are provided with these key educational and career development interventions, they will be well prepared to enter the 21st Century workforce. Cross-agency multi-year state plans were developed and used to support broader educational, vocational rehabilitation, and workforce development plans.

SUPPLEMENTARY INFORMATION: This solicitation consists of eight parts:

Part I provides a description of this funding opportunity.

Part II describes the size and nature of the anticipated awards.

Part III describes eligibility information.

Part IV provides information on the application and submission process.

Part V describes the criteria against which applications will be reviewed and explains the proposal review process.

Part VI provides award administration information.

Part VII contains DOL agency contact information.

Part VIII provides other information.

I. Funding Opportunity Description

The Department's prior grant initiatives have resulted in significant improvements in the workforce delivery system. DOL is now looking to refine and verify these delivery strategies for further replication across the workforce system. This DEI SGA requires that applicants develop a project plan that includes each of the Required Project Components in Section I.A. and utilizes at least two of the Strategic Service Delivery Components in Section I.B. Due to the level of effort expected from grantees and taking into consideration the level of funding available, DOL is requiring applicants to focus on adults or youth in order to develop and refine replicable models and expertise. Almost all states and territories have received funding under ETA and/or ODEP grant opportunities made available from PY/FY 2000 to PY/FY 2009. These grants helped identify a number of promising strategies to improve education, training and employment outcomes for adults and youth with disabilities. Selection of a DEI focus on adults or youth must not preclude the provision of services to all individuals with disabilities, regardless of age, who are accessing the workforce system. From prior experience, the Department expects that most customers of the public workforce system will benefit from the implementation of the DEI cooperative agreement regardless of what priority is the primary focus.

A. Required Project Components

The following components must be included in the state's DEI technical proposal design:

1. State Level DEI Project Lead—Applicants must designate a DEI project lead at the state level to be responsible for a variety of functions. Responsibilities of the DEI project lead include:

• Identifying and coordinating with the local WIBs that are participating in the initiative to ensure issues and challenges are addressed and common goals are achieved;

• Representing the state in administrative communications with the designated ETA Federal Project Officer (FPO), ETA Grant Officer, and National Office ETA and ODEP representatives;

• Facilitating state and local DEI participation in training and technical assistance activities;

• Establishing and coordinating partnerships with other state level agencies that may be critical to the success of education, training, and employment activities, and that are often most effectively engaged at the state level (e.g., Education, Medicaid Agency and Medicaid Infrastructure Grant Projects, Vocational Rehabilitation, Mental Health, Work Incentive Planning and Assistance Projects, and Mental Retardation/Developmental Disability agencies, among others).

• Coordinating implementation of Ticket to Work administrative activities, such as facilitating access to WIA and Wagner-Peyser individualized records and coordination with SSA or its representatives (e.g., MAXIMUS); and

• Facilitating implementation of additional data collection and process evaluation requirements that may be necessary for evaluation purposes.

2. Disability Resource Coordinator—Local WIBs that participate in the DEI cooperative agreement must commit to hiring a new or designating an existing full-time staff person(s) as the disability resource coordinator(s) to implement the strategic approach of the applicant's proposal. This person or persons should have disability-related skills, experience, and abilities dedicated to carrying out the proposal design at the local level. To the extent possible, former DPNs should be considered for employment in this role due to the extensive training and knowledge they have acquired over the years. The Department also encourages the state and local WIBs to hire individuals with disabilities in these roles.

3. One-Stop Physical, Programmatic, and Communications Accessibility—Applicants must verify that the participating local WIBs are in compliance with physical, programmatic and communication accessibility requirements established in non-discrimination regulations at Section 188 of WIA as a contingent for participation in the DEI cooperative agreement. Applicants must address the status of the most recent accessibility survey in local workforce areas that are participating in the DEI cooperative agreement, along with the corrective actions identified or completed, within 90 days of grant award. The Department expects that applicants and local WIBs will continue to review and upgrade access to their One-Stop Career Center system as part of their on-going administration and compliance obligations.

4. Participation in SSA's Ticket to Work Program as an Employment Network—Employment Network (EN) Status—Operating as an EN under SSA's Ticket to Work program is an important strategic approach to sustainability and collaboration in addressing the needs of people with disabilities receiving Supplemental Security Income/Social Security Disability Insurance (SSI/SSDI) cash benefits. The state workforce agency, or the local WIBs to be involved in the DEI, must be an Employment Network under Ticket to Work and Work Incentives Improvement Act (TWWIIA), or stipulate their commitment to apply for EN status to SSA within 60 days of the DEI grant award. Establishing EN status for workforce programs at the state level is an important factor in successful execution of the EN role for administrative and other reasons. However, a number of WIBs and One-Stop operators also have become ENs and accept Tickets for the provision of training or employment services. Full participation in the Ticket to Work Program by workforce investment areas can provide significant resources to workforce investment areas for increased services to individuals with disabilities. Active participation in the Ticket Program could greatly enhance funding and future sustainability of the DEI project. While the Department recognizes WIBs are, in fact, serving and obtaining employment for significant numbers of SSI/SSDI beneficiaries, there are still challenges to the full engagement of workforce entities as ENs. The Department will be working with states, local WIBs, and SSA to identify and overcome administrative challenges that emerge. Information on SSA's procedure for requesting EN status is available at: http://www.cessi.net/ttw/EN/one_stops/onestop.asp.

5. Sustainability—The applicant agrees to make every effort to sustain the disability resource coordinator(s) after the grant period ends and to incorporate into state policy and procedures, as appropriate, the promising practices that were successfully implemented by the project.

6. Evaluation—As part of the evaluation, the Department will compare the outcomes of WIA and Wagner-Peyser adults and youth with disabilities in local workforce areas that receive grant funds to those adults and youth with disabilities in local workforce areas who have access to the standard WIA and Wagner-Peyser services but not the interventions that are included in the applicant's proposal under this SGA. To this end, we ask applicants to identify all the WIBs that have the capacity to implement the pilot and are willing to be part of the evaluation. While only half of the identified WIBs will receive funding through the State to implement the SGA project, all would be part of the evaluation with up to 5% of the State's grant funds available to help offset the increased data requirements. Successful state applicants will work with the Department and the evaluator to select the WIBs that will participate in the DEI grant project while ensuring that all identified WIBs and their workforce investment areas have a fair chance at receiving funding.

The State applicant must agree to participate with DOL's data collection and evaluation activities. The Department will make maximum use of participant data from the Workforce Investment Act Standardized Record Data (WIASRD) and Wagner-Peyser reporting system, but additional data collection will be necessary. For example, the evaluation contractor will conduct a series of site visits for the purpose of documenting grantee progress and to develop case studies. In addition, WIBs that are identified as willing to participate in the state application (i.e., WIBs selected to participate in the DEI plan and those that are not selected) will be required to collect additional participant data; thereby allowing the Department to determine how services received differ between the enhanced and non-enhanced workforce investment areas and the extent to which outcomes of the adults and youth with disabilities differ during the course of the grant project, in these sites. Awardees will be required to provide access to individualized records that contain sufficient information to allow data matching with SSA disability records. Please note that the Department will work with states that receive a DEI grant award and are single state workforce investment areas to determine an approach that is consistent with this evaluation design.

B. Strategic Service Delivery Components

At a minimum, applicants must identify at least two of the following seven strategic components as significant elements of the service delivery approach for the youth or adult population to be served. Some of these strategies are not mutually exclusive nor are they always distinct or separate activities. These are practices and strategies that have been identified through both ETA and ODEP grant initiatives in increasing education and employment outcomes of the population to be served.

1. Integrated Resource Teams (IRT)

The IRT is a promising practice identified by the DPN Initiative whereby a team comprised of representatives from different agencies and service systems (both generic and disability-specific) coordinate services and leverage funding to meet the employment needs of an individual job seeker with a disability. The job seeker is a member of the IRT working with providers (e.g., interpreter service, community college, etc.) to identify and strategize how their combined services and resources can benefit and support an individual job seeker's education, training or employment goals. IRTs lead to improved communication and coordination of services for those impacted by multiple systems and benefit variables. More information on IRTs and other DPN promising practices can be found at: http://www.doleta.gov/disability/ and http://www.disability.workforce3one.org.

2. Integrating Resources and Services, Blending and Braiding Funds, Leveraging Resources

Integrating services and the blending and braiding of funds from multiple funding sources are strategies that are often incorporated into IRT, Guideposts, Vocational Rehabilitation, customized employment, self-employment and other employment models. Leveraging different Federal and state program funds involve two or more agencies contributing to the individual job seeker's education, training or employment goals. For example, supportive services may be covered by one provider, while training costs are covered by another agency or program. The job seeker with a disability may have multiple challenges that are best addressed through a diversified funding strategy. For the purposes of this SGA, the term “blended funding” is used to describe mechanisms that pool dollars from multiple sources and make them in some ways indistinguishable. “Braided funding” utilizes similar mechanisms, but the funding streams remain visible and are used in common to produce greater strength, efficiency, and/or effectiveness.

3. Customized Employment

Customized employment involves individualizing the relationship between job seekers and employers in ways that meet the needs of both. It is based on an individualized determination and discovery of the strengths, requirements, and interests of a person with multiple challenges. The process is designed to meet the workplace needs of the employer and the discrete tasks of the position identified for the job seeker. When a customized relationship is developed, it results in a shared employment alliance. Customized employment offers the chance for a job to fit the individual, meet individual needs, and match what s/he has to offer. Customized employment provides an avenue to employment for job seekers who feel that traditional job search methods do not meet their needs. More information on customized employment is at ODEP's Web site: http://www.dol.gov/odep/CE-FWA/.

4. Self-Employment

Self-employment has long been an employment alternative for individuals seeking a new or better career. Today, many job seekers with disabilities are turning to the flexibility of self-employment to meet both their career aspirations and financial goals. Self-employed persons have increased latitude in determining the hours they work, the type of work they do, and how much money they make. Self-employment strategies for youth and adults with disabilities are consistent with ETA's policy guidance in this area. Further information on ODEP's self-employment initiative can be found at: http://www.dol.gov/odep/categories/workforce/self.htm#init.

5. Guideposts for Success

Based on an extensive literature review of research, demonstration projects and effective practices covering a wide range of programs and services, including youth development, quality education, and workforce development programs, ODEP, in collaboration with the National Collaborative on Workforce Disability for Youth, identified Guideposts for Success. The Guideposts reflect what research has identified as key educational and career development interventions that can make a positive difference in the lives of all youth, including youth with disabilities. For more information on the Guideposts for Success, please visit http://www.ncwd-youth.info/guideposts.

6. Asset Development Strategies

Asset development strategies include various approaches to enhance long-term economic self-sufficiency, including use of individual development accounts, implementation of financial literacy training for youth and adults, incorporation of SSA pass plans and other work incentives, utilization of the Earned Income Tax Credit (EITC) and other tax provisions, and self-directed benefit and resource accounts, among others. Asset development strategies include benefits and services that are funded through resources other than those made available under the WIA, such as tax filing assistance, housing, nutrition, health care, or child care assistance. Information on asset development strategies and tax credits, including their relevance for the workforce development system, can be found at http://www.dol.gov/odep/fineddev.htm.

7. Partnerships and Collaboration

Applicants must demonstrate that the proposed project will include coordination with a variety of partners that impact the ability of adults and youth with disabilities to successfully participate in education, training and employment opportunities. A description of coordination plans and strategy for partnerships must be provided in the project proposal. Coordination across multiple agencies includes outreach to the partner's clients/consumers, co-location and integration in One-Stop Career Centers, and leveraging available funds, resources and organizational expertise. Partnering across multiple systems/programs is often a pre-requisite to providing employment-related supports that are needed to successfully address multiple challenges to employment. Potential partners include, but are not limited to: State and local Vocational Rehabilitation; Medicaid/Medicare; Medicaid Infrastructure Grant Projects, Mental Health; Developmental Disability/Mental Retardation Agency; State and local Education Departments; SSA programs, such as Work Incentives Planning and Assistance (WIPA) Projects and SSA Area Work Incentive Coordinators (AWICs); Temporary Assistance for Needy Families (TANF); community colleges, colleges, and universities; community services organizations including employment service providers; and national, state and local financial literacy and asset development programs and resources; among many others. Critically important to the Department is the inclusion of DOL programs such as adult, dislocated worker and youth training opportunities, Veterans Employment Training Services (VETS) programs, Job Corps, YouthBuild, ex-offender programs, Senior Community Employment Service Program (SCSEP), registered apprenticeship programs, American Indian and Native American education, post-secondary, vocational training, health and education programs, Migrant and Seasonal Farm Workers Programs, and other relevant DOL Federal/State-grant activities, as fundamental elements of the strategic approach.

C. Allowable Uses of Grant Funds

Grant funds may be used to fulfill the requirements identified above in the Funding Opportunity Description of this section (e.g., required project components, strategic service delivery components) and may include, but are not limited to the following:

(1) Disability resource coordinators or other project staff required to implement project design;

(2) Partnership coordination and collaboration activities or meetings required to support the project objectives;

(3) Necessary travel to conduct activities across the state or workforce investment area;

(4) Necessary travel to attend one national conference per year; and

(5) Service and programmatic activities to carry-out the objectives of the DEI cooperative agreement.

Up to 15% of grant funds are available for flexible spending purposes which may include, but is not limited to, procurement of software upgrades and other assistive technology equipment, supportive or intensive services to assure availability of training and employment needs, or other innovative approaches to meet the unique needs of an individual participant. Travel for an ETA/ODEP sponsored conference to be attended by the state lead and local area disability coordinators/project leads should be included in the budget plan. All education, training, job search activities, and supportive services should be funded through WIA, Wagner-Peyser or other program resources to the greatest extent possible. The leveraging of funds and resources for education, training and other activities is critical to the success of the DEI project and the achievement of outcomes for the youth and adults with disabilities that will be accessing the One-Stop Career Center system during the life of this Initiative. Up to 5% of grant funds are available for additional data collection requirements that may be needed.

II. Award Information

A. Award Amount

The Department expects to award approximately six to ten cooperative agreements totaling approximately $22 million ranging from $1.5 million to $6 million. Applicants should request an amount within this funding range proportionate to the needs and relative size of their project. Applications requesting funds exceeding the amount specified above will be found non-responsive and will not be considered.

B. Period of Performance

The period of performance will be 36 months from the date of execution of the grant documents.

III. Eligibility Information and Other Grant Specifications

A. Eligible Applicants

Applicants must be the state WIA administering agency. The state workforce agency must select a minimum of four local WIBs that have the capacity to carry-out the State's proposal under this SGA (please note that single state WIBs and states with less than four workforce investment areas are still eligible to apply). Half of these local WIBs will be responsible for implementing model services applicable to the State's selection of DEI priority areas under this SGA. The Department will work with the state to identify the participating WIBs and will require that other half of the WIBs that are not selected would nevertheless participate in the evaluation component and the collection of additional individualized data.

The Department requires that, at a minimum, the criteria for selecting the local WIB include: (1) Demonstrated success in serving individuals with disabilities as evidenced by their WIA and Wagner-Peyser data and outcomes; (2) assurance of physical, programmatic, and communication accessibility; (3) demonstrated commitment to prior partner collaboration that suggests a high likelihood of success in the implementation of the DEI cooperative agreement's goals and objectives; (4) incorporated policies and procedures to help the One-Stop Career Centers effectively serve persons with disabilities; and (5) conducted outreach to the disability community and employers to facilitate the hiring of people with disabilities.

Applicants must require that local WIBs selected to carry out the objectives of the DEI cooperative agreement will work with the DOL training, technical assistance, and evaluation contractors as applicable. DEI WIBs, and those WIBs that are identified in the application but not selected for DEI implementation, must agree to collect/provide relevant data or other information identified as critical to the evaluation.

B. Cost Sharing or Matching

There is no cost sharing or matching requirement in the DEI SGA, but the Department strongly encourages the leveraging of resources. Leveraged resources can come from a variety of sources, including public (e.g., Federal, State, or local governments) and non-profit sectors. The level of commitment of resources by partner organizations will be considered in the rating criteria.

C. Veterans' Priority

The Jobs for Veterans Act (Pub. L. 107-288) requires priority of service to veterans and spouses of certain veterans for the receipt of employment, training, and placement services in any job training program directly funded, in whole or in part, by DOL. The regulations implementing this priority of service can be found at 20 CFR Part 1010. In circumstances where a grant recipient must choose between two qualified candidates for training, one of whom is a veteran or eligible spouse, the Veterans Priority of Service provisions require that the grant recipient give the veteran or eligible spouse priority of service by admitting him or her into the training program. To obtain priority of service, a veteran or spouse must meet the program's eligibility requirements. Grantees must comply with DOL guidance on veterans' priority. Employment and Training Administration Training and Employment Guidance Letter (TEGL) No. 10-09 (issued November 10, 2009) provides guidance on implementing priority of service for veterans and eligible spouses in all qualified job training programs funded in whole or in part by DOL. TEGL No. 10-09 is available at: http://wdr.doleta.gov/directives/corr_doc.cfm?DOCN=2816.

IV. Application and Submission Information

A. How to Obtain an Application Package

This SGA contains all the information and links to forms needed to apply for grant funding. Additionally, all application materials are available on the following Web sites: http://www.doleta.gov/grants/find_grants.cfm and http://www.grants.gov.

B. Content and Form of Application Submission

The application must consist of three separate and distinct parts: (I) The Cost Proposal, (II) the Technical Proposal, and (III) Attachments to the Technical Proposal. Applications that fail to adhere to the instructions in this section will be considered non-responsive and will not be reviewed nor considered for award. Please note that it is the applicant's responsibility to ensure that the amount of funds requested is consistent across all parts and sub-parts of the application.

Part I. The Cost Proposal. The Cost Proposal must include the following four items:

• Application for Federal Assistance SF-424: The Standard Form (SF)-424, “Application for Federal Assistance” is available at http://www07.grants.gov/agencies/forms_repository_information.jsp and http://www.doleta.gov/grants/find_grants.cfm. The SF-424 must clearly identify the applicant and be signed by an individual with authority to enter into a grant agreement. Upon confirmation of an award, the individual signing the SF-424 on behalf of the applicant shall be considered the authorized representative of the applicant.

• Data Universal Number System (D-U-N-S®) Number: Applicants must supply their D-U-N-S® on the SF-424. All applicants for Federal grant and funding opportunities are required to have a D-U-N-S® Number. See Office of Management and Budget (OMB) Notice of Final Policy Issuance, 68 FR 38402, Jun. 27, 2003. The D-U-N-S® Number is a non-indicative, nine-digit number assigned to each business location in the Dun and Bradstreet (D&B) database having a unique, separate, and distinct operation, and is maintained solely by D&B entities. The D-U-N-S® Number is used by industries and organizations around the world as a global standard for business identification and tracking. Obtaining a D-U-N-S® Number is easy and there is no charge. To obtain a D-U-N-S® number, access this Web site: http://www.dunandbradstreet.com or call 1-866-705-5711.

• The SF-424A Budget Information Form: The SF-424A Budget Information Form is available at http://www07.grants.gov/agencies/forms_repository_information.jsp and http://www.doleta.gov/grants/find_grants.cfm. In preparing the Budget Information Form, the applicant must provide a concise narrative explanation to support the request, explained in detail below.

• Budget Narrative: The budget narrative must provide a description of costs associated with each line item on the SF-424A. The budget narrative also should include leveraged resources provided to support the grant activities. In addition, the applicant should address precisely how the administrative costs support the project goals. The entire Federal grant amount requested should be included on both the SF-424 and SF-424A. No leveraged resources should be shown on the SF 424 and SF 424A. Please note that applicants that fail to provide a SF-424, a SF-424A, a D-U-N-S® Number, and a budget narrative will be removed from consideration before the technical review process.

Applicants are also encouraged, but not required, to submit OMB Survey N. 1890-0014: Survey on Ensuring Equal Opportunity for Applicants, which can be found at: http://www.doleta.gov/sga/forms.cfm.

Part II. The Technical Proposal. The Technical Proposal demonstrates the applicant's capability to implement the grant project in accordance with the provisions of this solicitation. The guidelines for the content of the Technical Proposal are provided in section V.A of this SGA. The Technical Proposal is limited to 25 double-spaced, single-sided, 8.5 × 11-inch pages with 12 point text and 1-inch margins. Any materials beyond the 25-page limit will not be read. Further, any tables or charts contained in the Technical Proposal are included in the 25-page limit and should be presented on single-spaced, single-sided, 8.5 x 11-inch pages with 12 point text and 1-inch margins. Applicants should number the Technical Proposal beginning with page number 1. Applications that do not include Part II, the Technical Proposal, will be considered non-responsive.

Part III. Attachments to the Technical Proposal. In addition to the 25-page Technical Proposal, the applicant must submit the following Required Attachments: (1) Two-page Executive Summary as an attachment to the Technical Proposal; (2) chart displaying WIA and Wagner-Peyser data to address evaluation criteria in Section V.A.; (3) chart displaying state, population of state, and list of each local WIB; and (4) graphic display of work plan implementation schedule, expected milestones, and outcomes. The performance chart and work plan timelines may be attached but cannot exceed four pages each. These Required Attachments will be excluded from the 25-page limit. Required Attachments must be affixed as separate, clearly identified appendices to the application. Additional materials such as résumés or general letters of support or commitment will not be read.

C. Submission Date, Times, and Addresses

The closing date for receipt of applications under this announcement is September 8, 2010. Applications must be received at the address below no later than 4 p.m. Eastern Time. Applications sent by e-mail, telegram, or facsimile (FAX) will not be accepted. If an application is submitted by both hard copy and through http://www.grants.gov a letter must accompany the hard copy application stating why two applications were submitted and the differences between the two submissions. If no letter accompanies the hard copy, DOL will review the copy submitted through http://www.grants.gov. For multiple applications submitted through http://www.grants.gov, DOL will review the latest submittal. Applications that do not meet the conditions set forth in this notice will be considered nonresponsive. No exceptions to the mailing and delivery requirements set forth in this notice will be granted.

Mailed applications must be addressed to the U.S. Department of Labor, Employment and Training Administration, Division of Federal Assistance, Attention: B. Jai Johnson, Grant Officer, Reference SGA/DFA, PY-10-01, 200 Constitution Avenue, NW., Room N4716, Washington, DC 20210. Applicants are advised that mail delivery in the Washington, DC area may be delayed due to mail decontamination procedures. Hand-delivered proposals will be received at the above address. All overnight mail will be considered to be hand-delivered and must be received at the designated place by the specified closing date and time.

Applicants may apply online through Grants.gov (http://www.grants.gov); however due to the expected increase in system activity, applicants are encouraged to use an alternate method to submit grant applications during this heightened period of demand. Applicants submitting proposals in hard copy must submit an original signed application (including the SF-424) and one (1) “copy ready” version free of bindings, staples or protruding tabs to ease in the reproduction of the proposal by DOL. Applicants submitting proposals in hard copy are also required to provide an identical electronic copy of the proposal on compact disc (CD). While not mandatory, DOL encourages the submission of hard copy applications through a professional overnight delivery service.

Applications that are submitted through Grants.gov must be successfully submitted at http://www.grants.gov no later than 4 p.m. Eastern Time on the closing date, and then subsequently validated by Grants.gov. The submission and validation process is described in more detail below. The process can be complicated and time-consuming. Applicants are strongly advised to initiate the process as soon as possible and to plan for time to resolve technical problems if necessary.

The Department strongly recommends that before beginning to write the proposal, applicants should immediately initiate and complete the “Get Registered” registration steps at http://www.grants.gov/applicants/get registered.jsp. Applicants should read through the registration process carefully before registering. These steps may take as many as four weeks to complete, and this time should be factored into plans for electronic submission in order to avoid unexpected delays that could result in the rejection of an application. The site also contains registration checklists to help you walk through the process.

The Department strongly recommends that applicants download the “Organization Registration Checklist” at http://www.grants.gov/assets/Organization Steps Complete Registration.pdf and prepare the information requested before beginning the registration process. Reviewing and assembling required information before beginning the registration process will alleviate last minute searches for required information and save time.

To register with Grants.gov, applicants applying electronically must have a D-U-N-S® Number and must register with the Federal Central Contractor Registry (CCR). Step-by-step instructions for registering with CCR can be found at http://www.grants.gov/applicants/org_step2.jsp. All applicants must register with CCR in order to apply online. Failure to register with the CCR will result in your application being rejected by Grants.gov during the submission process. The next step in the registration process is creating a username and password with Grants.gov to create a profile as an Authorized Organizational Representative (AOR). AORs will need to know the D-U-N-S® Number of the organization for which they will be submitting applications to complete this process. To read more detailed instructions for creating a profile on Grants.gov visit: http://www.grants.gov/applicants/org_step3.jsp. After creating a profile on Grants.gov, the E-Biz Point of Contact (E-Biz POC)—a representative from your organization who is the contact listed for CCR—will receive an e-mail to grant the AOR permission to submit applications on behalf of their organization. The E-Biz POC will then log into Grants.gov and approve an applicant as the AOR, thereby giving him or her permission to submit applications. To learn more about AOR Authorization visit: http://www.grants.gov/applicants/org_step5.jsp, or to track AOR status visit: http://www.grants.gov/applicants/org_step6.jsp. An application submitted through Grants.gov constitutes a submission as an electronically signed application. The registration and account creation with Grants.gov, with E-Biz POC approval, establishes an AOR. When you submit the application through Grants.gov, the name of your AOR on file will be inserted into the signature line of the application. Applicants must register the individual who is able to make legally binding commitments for the applicant organization as the AOR; this step is often missed and it is crucial for valid submissions.

When a registered applicant submits an application with Grants.gov, an electronic time stamp is generated within the system when the application is successfully received by Grants.gov. Within two business days of application submission, Grants.gov will send the applicant two e-mail messages to provide the status of application progress through the system. The first e-mail, which will be received almost immediately after submission, will contain a tracking number and confirm receipt of the application by Grants.gov. The second e-mail will indicate the application has either been successfully validated or rejected due to errors. Only applications that have been successfully submitted by the deadline and subsequently successfully validated will be considered. It is the sole responsibility of the applicant to ensure a timely submission. While it is not required that an application be successfully validated before the deadline for submission, it is prudent to reserve time before the deadline in case it is necessary to resubmit an application that has not been successfully validated. Therefore, sufficient time should be allotted for submission (two business days) and, if applicable, subsequent time to address errors and receive validation upon resubmission (an additional two business days for each ensuing submission). It is important to note that if sufficient time is not allotted and a rejection notice is received after the due date and time, the application will not be considered.

To ensure consideration, the components of the application must be saved as either .doc, .xls or .pdf files. If submitted in any other format, the applicant bears the risk that compatibility or other issues will prevent our ability to consider the application. ETA will attempt to open the document, but will not take any additional measures in the event of issues with opening. In such cases, the non-conforming application will not be considered for funding. We strongly advise applicants to use the plethora of tools and documents, including FAQs, that are available on the “Applicant Resources” page at http://www.grants.gov/applicants/resources.jsp. To receive updated information about critical issues, new tips for users and other time sensitive updates as information is available, applicants may subscribe to “Grants.gov Updates” at http://www.grants.gov/applicants/email_subscription_signup.jsp. If applicants encounter a problem with Grants.gov and do not find an answer in any of the other resources, call 1-800-518-4726 to speak to a Customer Support Representative or e-mail support@grants.gov. The Contact Center is open 24 hours a day, seven days a week. They are closed on Federal holidays.

Late Applications: For applications submitted on Grants.gov, only applications that have been successfully submitted no later than 4 p.m. Eastern Time on the closing date and subsequently successfully validated will be considered. Applicants take a significant risk by waiting until the application due date to submit by Grants.gov. Any application received after the exact date and time specified for receipt at the office designated in this notice will not be considered, unless it is received before awards are made, it was properly addressed, and it was: (a) Sent by U.S. Postal Service mail, postmarked not later than the fifth calendar day before the date specified for receipt of applications (e.g., an application required to be received by the 20th of the month must be postmarked by the 15th of that month); or (b) sent by professional overnight delivery service to the addressee not later than one working day before the date specified for receipt of applications. “Postmarked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Evidence of timely submission by a professional overnight delivery service must be demonstrated by equally reliable evidence created by the delivery service provider indicating the time and place of receipt.

D. Intergovernmental Review

This funding opportunity is not subject to Executive Order (EO) 12372, “Intergovernmental Review of Federal Programs.”

E. Other Submission Requirements

Withdrawal of Applications. Applications may be withdrawn by written notice at any time before an award is made.

F. Funding Restrictions

Determinations of allowable costs will be made in accordance with the applicable Federal cost principles. Disallowed costs are those charges to a grant that the grantor agency or its representative determines not to be allowed in accordance with the applicable Federal cost principles or other conditions contained in the grant. Successful and unsuccessful applicants will not be entitled to reimbursement of pre-award costs.

DOL/ETA's acceptance of a proposal and award of Federal funds to sponsor any program does not provide a waiver of any grant requirements and/or procedures. The Office of Management and Budget (OMB) Circulars A-122 and A-87 require that an entity's procurement procedures must ensure that all procurement transactions are conducted, as much as practical, to provide open and free competition.

1. Indirect Cost Rate. As specified in OMB Circular Cost Principles (A-122 and A-87), indirect costs are those that have been incurred for common or joint objectives and cannot be readily identified with a particular final cost objective. In order to use grant funds for indirect costs incurred, the applicant must obtain an Indirect Cost Rate Agreement with its Federal cognizant agency either before or shortly after grant award.

2. Administrative Costs. Under this SGA, an entity that receives a grant to carry out a project or program may not use more than ten percent (10%) of the amount of the grant to pay administrative costs associated with the program or project. Administrative costs could be direct or indirect costs, and are defined at 20 CFR 667.220. Administrative costs do not need to be identified separately from program costs on the SF 424A, Budget Information Form. They should be discussed in the budget narrative and tracked through the grantee's accounting system. To claim any administrative costs that are also indirect costs, the applicant must obtain an Indirect Cost Rate Agreement from its Federal cognizant agency. Please note that funds used for disability resource coordinators and any service related costs associated with carrying out the strategies outlined in the applicant's proposal, including local travel, are not considered administrative costs.

3. Allowable Costs. The Department determines what constitutes allowable costs in accordance with the following Federal cost principles, as applicable: (1) State and Local Government—OMB Circular A-87; (2) Educational Institutions—OMB Circular A-21; (3) Nonprofit Organizations—OMB Circular A-122; and (4) Profit-making Commercial Firms—48 CFR Part 31.

4. Legal rules pertaining to inherently religious activities by organizations that receive Federal financial assistance. The government is generally prohibited from providing direct Federal financial assistance for inherently religious activities. See 29 CFR part 2, Subpart D. Grants under this solicitation may not be used for religious instruction, worship, prayer, proselytizing, or other inherently religious activities. Neutral, non-religious criteria that neither favor nor disfavor religion will be employed in the selection of grant recipients and must be employed by grantees in the selection of sub-recipients.

5. Salary and Bonus Limitations. Under Public Law 109-234, none of the funds appropriated in Public Law 109-149, or prior Acts under the heading “Employment and Training” that are available for expenditure on or after June 15, 2006, shall be used by a recipient or sub-recipient of such funds to pay the salary and bonuses of an individual, either as direct costs or indirect costs, at a rate in excess of Executive Level II. Public Laws 111-8 and 111-117 contain the same limitations with respect to funds appropriated under each of those Laws. These limitations also apply to grants funded under this SGA. The salary and bonus limitation does not apply to vendors providing goods and services as defined in OMB Circular A-133 (codified at 29 CFR parts 96 and 99). See Training and Employment Guidance Letter number 5-06 for further clarification: http://wdr.doleta.gov/directives/corr_doc.cfm?DCON=2262.

6. Intellectual Property Rights. The Federal Government reserves a paid-up, nonexclusive and irrevocable license to reproduce, publish or otherwise use, and to authorize others to use for Federal purposes: (1) The copyright in all products developed under the grant, including a subgrant or contract under the grant or subgrant; and (2) any rights of copyright to which the grantee, subgrantee or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy which is limited to the developer/seller costs of copying and shipping. If revenues are generated through selling products developed with grant funds, including intellectual property, these revenues are program income. Program income is added to the grant and must be expended for allowable grant activities.

If applicable, grantees must include the following language on all products developed in whole or in part with grant funds: “This workforce solution was funded by a grant awarded by the U.S. Department of Labor's Employment and Training Administration. The solution was created by the grantee and does not necessarily reflect the official position of the U.S. Department of Labor. The Department of Labor makes no guarantees, warranties, or assurances of any kind, express or implied, with respect to such information, including any information on linked sites and including, but not limited to, accuracy of the information or its completeness, timeliness, usefulness, adequacy, continued availability, or ownership. This solution is copyrighted by the institution that created it. Internal use by an organization and/or personal use by an individual for non-commercial purposes are permissible. All other uses require the prior authorization of the copyright owner.”

V. Application Review Information

A. Evaluation Criteria

This section identifies and describes the criteria that will be used to evaluate proposals. Points will be awarded based on how well an applicant fully demonstrates its approach and/or qualifications and clearly provides the information required.

Criterion | Total possible points
1. Program Delivery—Strategic Approach | 40
2. Partnership Commitment and Resources | 20
3. Demonstrated Experience | 15
4. Project Management | 15
5. Outcomes and Sustainability | 10

1. Program Delivery—Strategic Approach (40 Points)

Discuss the strategic approach and how required and strategic service delivery components set forth in Section I.A., I.B. and I.C. will be incorporated into the project activities, including how the strategic approach will result in increased access to, and use of, the One-Stop Career Center system's services by adults and/or youth with disabilities and their improved education, training, and/or employment outcomes. Note that depending on the selected Strategic Service Delivery Components in Section I.B., not all of the items in the paragraphs below will apply.

The 40 possible points for this criterion will be assessed as follows:

Adults or Youth with Disabilities (5 Points)—Discuss the primary focus of the DEI project (i.e., adult or youth focus), the rationale for this selection, and the overall objectives of the DEI project. For purposes of this SGA, youth are considered to be age 14-24 (applicants may select the full range or ages within this range). States and local workforce areas are required to serve both adults and youth with disabilities; however for the purpose of this SGA, DOL is requiring the applicants to focus on one or the other for the purpose of developing replicable models and expertise, given the level of effort that is required with the limited funds that are currently available. Include demographic information, the extent to which adults/youth with disabilities from racial or ethnic minorities will be included, and whether the project will focus on urban or rural environments. Discuss any additional special focus of the project in terms of addressing veterans with disabilities, the homeless, TANF recipients, individuals with developmental, psychiatric and/or other hidden disabilities, out-of-school youth, ex-offenders or other populations with significant disabilities. Provide information on experience to date with adults or youth with disabilities to whom the DEI project is directed and any special initiatives undertaken with the selected population. Identify the extent to which the project design will be directed to SSI/SSDI beneficiaries.

Strategies To Be Deployed (20 Points)—Discuss the overall strategic approach to be implemented and how this will address the unique needs of the primary population, the workforce areas that are expected to participate, why the project design is expected to be successful and how strategic service delivery components in Section I.B. will be deployed to achieve the stated objectives (a minimum of two of the strategic service delivery components must be a significant part of the project design, but more can be included).

i. Adult Focus—Discuss the overall approach to addressing the specific challenges and needs of adult job seekers with disabilities, including the availability of learning and skill assessments (including discovery), retraining options, on-the-job training, customized employment, part-time employment, and self-employment options, among others. Provide information on the availability of supportive services, including assistance with transportation and other short-term requirements for participation in training or employment. Provide information on the state's economy, including career opportunities in high-growth job sectors and how these may be incorporated in the project design. Discuss outreach to the population to be served, marketing of One-Stop services to job seekers with disabilities, and the applicant's experience in conducting similar outreach activities. Discuss linkages to the employer community and how engagement of business and employers will facilitate improved outcomes and achievement of goals. Discuss involvement of various asset development strategies in achieving project goals. If special populations, such as veterans with disabilities and TANF, are a significant focus of the project, discuss what approaches will be used to improve outcomes. Discuss early intervention strategies, including deployment of Medicaid Buy-in, and how SSA work incentive strategies will be utilized for SSI/SSDI beneficiaries.

or

ii. Youth Focus—Discuss the overall strategic approach to addressing the needs of the youth to be served, including the extent to which the focus is on transitioning into the workforce, the age range of youth to be served, outreach to out-of-school and at-risk youth, and how Guideposts for Success will be incorporated. Identify what basic and vocational assessments, transition and intermediary services, and parental involvement will occur, if applicable. Describe strategies for linkages with middle and secondary schools and other education components. Discuss the availability of work experience, summer youth activities, mentoring opportunities, on-the-job training, and how other opportunities for youth to engage in work experience will be accomplished. Provide information on the availability of education, training and employment opportunities that focus on career opportunities, in particular in high-growth job sectors, and the applicant's approach to further career pathways. Discuss the objectives of the project design in terms of education outcomes, including access to community college and other secondary education, and the extent to which youth with disabilities will obtain credentials or other certificates of accomplishments. Discuss the extent to which part-time, temporary and self-employment options will be available. Discuss how the project design will address systemic barriers to education and employment for youth on SSI, and the extent to which youth on SSI will be included. Describe inclusion of apprenticeship training and employment options, if applicable. Discuss the availability of individual development accounts and other asset development activities.

One-Stop Career Center System (15 Points)—Discuss how the state will incorporate the following requirements provided in Section III.A. in the selection of at least two local WIBs: (1) Demonstrated success in serving individuals with disabilities as evidenced by their WIA and Wagner-Peyser data and outcomes; (2) assurance of physical, programmatic, and communication accessibility; (3) demonstrated commitment to prior partner collaboration that suggests a high likelihood of success in the implementation of the DEI cooperative agreement's goals and objectives; (4) incorporated policies and procedures to help the One-Stop Career Centers to effectively serve persons with disabilities; and (5) conducted outreach to the disability community and employers to facilitate the hiring of people with disabilities. Single state workforce areas will be evaluated based upon the applicants addressing these factors at the state level.

Discuss any additional criteria the state will use for selecting WIBs to participate in the DEI project, how many local areas the state plans to include, and how the requirements set forth in Section I.A will be met. Discuss the applicant's status as an Employment Network, plans for becoming an EN at the state or local WIB level, and what role this will play in the overall design and implementation of the project. Identify whether the state currently collects SSI/SSDI status as part of registration in WIA and Wagner-Peyser funded programs. Discuss planned activities under the DEI project to improve physical, programmatic and communication access, if applicable. Discuss how the project design will impact the workforce system, expand comprehensive service delivery, facilitate systems change, incorporate universal design, and improve the effective and meaningful education, training, and employment opportunities to adults or youth with disabilities.

2. Partnership Commitment and Resources (20 points)

Discuss the partners that the applicant is planning to collaborate with in order to achieve the goals and objectives of the adult or youth DEI project, including the extent to which the partners will be engaged and funds and resources leveraged. Include criteria that applicant will use to address partnerships and linkages of the WIBs participating in the cooperative agreement.

The 20 possible points for this criterion will be assessed as follows:

Strategic Partners (10 Points)—Discuss primary partners that will actively participate in the DEI project in terms that demonstrate understanding of the adult or youth focus and how these partners are integral to the goals and objectives of the applicant's project design. Discuss partners involved at the state level, the extent to which strong partnerships with state-level agencies (both generic systems and disability specific programs and systems), have been forged, what additional systems change efforts will be sought through the DEI cooperative agreement, and how the state-level partnerships will be utilized at the local level to increase service delivery and outcomes. Describe what linkages are planned to facilitate improved services and outcomes for SSI/SSDI beneficiaries, including partnerships to address work incentives, asset development, and SSA work provisions will be addressed. Identify the extent to which co-location of and coordination amongst Vocational Rehabilitation, Area Work Incentive Coordinators, education, TANF, Disabled Veterans' Outreach Program, Employment Networks, Medicaid Infrastructure Grant Projects, or other organizational or community providers are a factor in the state's workforce system.

Partner Resources (10 Points)—Discuss how partner resources and programs will be leveraged and incorporated in the project design and how these will improve the services and outcomes of the adults or youth with disabilities as well as accomplish DEI objectives. Identify resources and program dollars that are planned for education and training of adults or youth, including resources that will be available from WIA adult, dislocated worker, and youth programs. Discuss how flexible funding dollars (if applicant plans to use) will augment the available resources of individual job seekers. Discuss partner resources to be available to the adult or youth with a disability through individual development accounts, through IRTs, or other funds that expand the likelihood of individual success and economic independence, including flexible funding available through partner systems or the flexible spending fund.

3. Demonstrated Experience (15 Points)

Provide information regarding the applicant's achievements to date in the education, training and employment or self-employment of adults and/or youth with disabilities, actions taken to assure physical, programmatic and communication accessibility of the workforce system, and the extent to which the applicant has promoted services that addressed the needs of job seekers with disabilities. Provide criteria the applicant will use to identify WIBs with significant accomplishments in the areas below.

The 15 possible points for this criterion will be assessed as follows:

Services and Outcomes of Adults and Youth With Disabilities (5 Points)—Provide data on WIA and Wagner-Peyser services for adults and youth in PY 2008 and 2009. This information can be provided in chart form and provided as an attachment. Applicants focusing the DEI project on adults should include data on the: (1) Number of all exiters/registrants, number and percent of people with disabilities; (2) total number and percent entering employment, number and percent of people with disabilities; (3) total number and percent retaining employment, number and percent of people with disabilities; and (4) average wage of all and average wage of people with disabilities. Applicants focusing the DEI project on youth should include data on the: (1) Number of all exiters participating in older and younger WIA youth programs; (2) educational achievements of all youth and those with disabilities; and (3) employment outcomes of older youth. Applicants will be rated on the extent to which they have been providing services to adults or youth with disabilities and achieved successful outcomes. Additional data that may be available as a result of prior participation with ETA's DPN and ODEP's Customized Employment or Youth demonstration grants may be included.

Physical, Communication and Programmatic Accessibility (5 Points)—Provide detailed information on the status of physical, communication and programmatic accessibility in the state's workforce system, including the status of accessibility surveys, what workforce areas were covered in the survey, corrective actions identified and their status. Information should also include the level of commitment or innovation that has occurred at the state level versus the local WIB level. Discuss implementation of assistive technologies, the percent of workforce areas covered, and what improvements are still needed. Identify the status of communication access and strategies deployed to meet the needs of individuals who are deaf or hard of hearing. Applicants will be rated on the extent to which deliberate strategies have been undertaken to address accessibility and the level of commitment taken by the applicant to improve and assure accessibility requirements have been met since implementation of the WIA.

Programmatic Experience and Initiative (5 Points)—Provide detailed information on any special initiatives or projects that have been undertaken to address the particular needs of adults or youth with disabilities, including engagement of the workforce systems participation as an EN at the state and/or local level. Discuss implementation and experience with successful strategies under a DPN or ODEP grant. Identify special projects or initiatives that have been directed to populations that are known to often have a disability such as veterans, TANF recipients, the homeless, and ex-offenders * * * Applicants will be rated on the extent to which they have successfully implemented a DPN or ODEP grant, including the identified promising practices, and the extent to which the applicant took other initiatives and actions to serve adults and youth with disabilities and/or other populations with significant barriers.

4. Project Management (10 Points)

Describe the capacity of the state to effectively implement the applicant's proposal. Disability coordinator(s) would be expected to work full time on the initiative and former DPNs may be a valuable resource for this position.

The 10 possible points for this criterion will be assessed as follows:

Staff Capacity (5 Points)—Discuss the experience of the project lead regarding workforce and disability knowledge and the plan to hire experienced and knowledgeable disability coordinator at the local WIB level, including the criteria that will be used to assure that participating WIBs hire individuals with disability expertise. Discuss the possibility of including current or former DPNs in the role of the DEI disability resource coordinator positions. Identify the likely employing entity (e.g., state, local WIB, One-Stop Career Center) of disability resource coordinator position(s). Identify any utilization of consultants anticipated during the course of DEI project.

Fiscal and Administrative Capacity (5 Points)—Describe the capacity of the state to administer the DEI project, including fiscal and oversight capability, the capacity for early start-up, timeliness of WIA quarterly fiscal and program reporting, and ability to make participant data available to the Department. Identify status of common intake, Management Information Systems (MIS) and integrated data sets relative to WIA, Wagner-Peyser, Vocational Rehabilitation, and non-mandated WIA programs such as TANF. Discuss audit or FPO findings and recommendations since PY 2007 and the status of corrective action(s).

5. Outcomes and Sustainability (10 points)

The 10 possible points for this criterion will be assessed as follows:

Outcomes (5 Points)

Identify applicable outcomes that will result from grant activities, including goals to be achieved, individuals with disabilities to be served, and outcomes to be achieved. Provide information on the ability of the applicant to achieve the stated goals and outcomes and provide data on results within the timeframe of the grant. Describe the scope of the project in terms of adults or youth with disabilities expected to receive core, intensive, and training services; education and employment outcomes expected; retention expectations, and average wage to be achieved (employment outcomes that result in sub-minimum wage status will be considered non-responsive). Discuss the capacity of workforce system to capture co-enrollments (e.g., TANF, VR, ENs, etc.), and the commitment of the state to capture partnership involvement and contributions to outcomes. Identify whether the state will provide access to individualized SSNs to the Department or its contractors for evaluation purposes. Discuss applicant's commitment to work with DOL's independent evaluator.

Sustainability (5 Points)

Discuss sustainability strategies for carrying on successful approaches that are demonstrated to improve the education and employment outcomes of adults and youth with disabilities beyond the end of the DEI grant. Provide detailed information on WIA and Wagner-Peyser, Ticket to Work, and other program resources that will be used to replicate or expand the promising practices the project implemented to other LWIBs and One-Stop Career Centers.

B. Review and Selection Process

Applications for grants under this solicitation will be accepted after the publication of this announcement and until the closing date. A technical review panel will carefully evaluate applications against the selection criteria. These criteria are based on the policy goals, priorities, and emphases set forth in this SGA. Up to 100 points may be awarded to an application, depending on the quality of the responses to the required information described in section V.A. The ranked scores will serve as the primary basis for selection of applications for funding, in conjunction with other factors such as geographic balance, and which proposals are most advantageous to the government. The panel results are advisory in nature and not binding on the Grant Officer. The Grant Officer may consider any information that comes to his/her attention, including information and prior performance of DPN and ODEP grants which will be made available to the Grant Officer. The government may elect to award the grant(s) with or without discussions with the applicant. Should a grant be awarded without discussions, the award will be based on the applicant's signature on the SF 424, including electronic signature via E-Authentication on http://www.grants.gov, which constitutes a binding offer by the applicant.

VI. Award Administration Information

A. Award Notices

All award notifications will be posted on the ETA Homepage (http://www.doleta.gov). Applicants selected for award will be contacted directly before the grant's execution and non-selected applicants will be notified by mail. Selection of an organization as a grantee does not constitute approval of the grant application as submitted. Before the actual grant is awarded, ETA may enter into negotiations about such items as program components, staffing and funding levels, and administrative systems in place to support grant implementation. If the negotiations do not result in a mutually acceptable submission, the Grant Officer reserves the right to terminate the negotiation and decline to fund the application.

B. Administrative and National Policy Requirements

1. Administrative Program Requirements

All grantees will be subject to all applicable Federal laws, regulations (available at http://gpoaccess.gov/cfr) and the applicable OMB Circulars (available at http://www.whitehouse.gov/omb/circulars). The grants awarded under this SGA are subject to the applicable administrative standards and provisions, including, but not limited to, the following:

• Non-Profit Organizations—OMB Circulars A-122 (Cost Principles) and 29 CFR part 95 (Administrative Requirements).

• Educational Institutions—OMB Circulars A-21 (Cost Principles) and 29 CFR part 95 (Administrative Requirements).

• State and Local Governments—OMB Circulars A-87 (Cost Principles) and 29 CFR part 95 (Administrative Requirements).

• Profit Making Commercial Firms—Federal Acquisition Regulation (FAR)—48 CFR part 31 (Cost Principles), and 29 CFR part 95 (Administrative Requirements).

The Workforce Investment Act of 1998, Public Law 105-220, 112 Stat. 936 (codified as amended at 29 U.S.C. 2801 et seq.) and 20 CFR part 667 (General Fiscal and Administrative Rules). This includes unsuccessful applicant appeal information.

• 29 CFR part 29 and 30—Apprenticeship and Equal Employment Opportunity in Apprenticeship and Training; and

• 29 CFR part 37—Implementation of the Nondiscrimination and Equal Opportunity Provisions of the Workforce Investment Act of 1998. The Department notes that the Religious Freedom Restoration Act (RFRA), 42 U.S.C. section 2000bb, applies to all Federal law and its implementation. If your organization is a faith-based organization that makes hiring decisions on the basis of religious belief, it may be entitled to receive Federal financial assistance under Title I of WIA and maintain that hiring practice even though Section 188 of WIA contains a general ban on religious discrimination in employment. If you are awarded a grant, you will be provided with information on how to request such an exemption.

• Under WIA section 181(b)(4), health and safety standards established under Federal and State law otherwise applicable to working conditions of employees are equally applicable to working conditions of participants engaged in training and other activities.

Applicants that are awarded grants through this SGA are reminded that these health and safety standards apply to participants in these grants. In accordance with section 18 of the Lobbying Disclosure Act of 1995 (Pub. L. 104-65) (2 U.S.C. 1611), non-profit entities incorporated under Internal Revenue Service Code Section 501(c)(4) that engage in lobbying activities are not eligible to receive Federal funds and grants. Except as specifically provided in this SGA, DOL/ETA's acceptance of a proposal and an award of Federal funds to sponsor any programs(s) does not provide a waiver of any grant requirements and/or procedures. For example, the OMB Circulars require that an entity's procurement procedures must ensure that all procurement transactions are conducted, as much as practical, to provide open and free competition. If a proposal identifies a specific entity to provide services, the DOL's award does not provide the justification or basis to sole source the procurement, i.e., avoid competition, unless the activity is regarded as the primary work of an official partner to the application.

• 29 CFR part 2, subpart D—Equal Treatment in Department of Labor Programs for Religious Organizations, Protection of Religious Liberty of Department of Labor Social Service Providers and Beneficiaries.

• 29 CFR parts 29 and 30—Labor Standards for Registration of Apprenticeship Programs, and Equal Employment Opportunity in Apprenticeship and Training.

• 29 CFR part 31—Nondiscrimination in Federally Assisted Programs of the Department of Labor—Effectuation of Title VI of the Civil Rights Act of 1964.

• 29 CFR part 32—Nondiscrimination on the Basis of Handicap in Programs and Activities Receiving or Benefiting from Federal Financial Assistance.

• 29 CFR part 33—Enforcement of Nondiscrimination on the Basis of Handicap in Programs or Activities Conducted by the Department of Labor.

• 29 CFR part 35—Nondiscrimination on the Basis of Age in Programs or Activities Receiving Federal Financial Assistance from the Department of Labor.

• 29 CFR part 36—Nondiscrimination on the Basis of Sex in Education Programs or Activities Receiving Federal Financial Assistance.

• All entities must comply with 29 CFR parts 37, 93, and 98, and where applicable 29 CFR parts 96 and 99.

The Department notes that the Religious Freedom Restoration Act (RFRA), 42 U.S.C. sec. 2000bb, applies to all Federal law and its implementation. If your organization is a faith-based organization that makes hiring decisions on the basis of religious belief, it may be entitled to receive Federal financial assistance under Title I of the Workforce Investment Act and maintain that hiring practice even though Section 188 of the Workforce Investment Act contains a general ban on religious discrimination in employment. If you are awarded a grant, you will be provided with information on how to request such an exemption.

In accordance with section 18 of the Lobbying Disclosure Act of 1995 (Pub. L. 104-65) (2 U.S.C. 1611), non-profit entities incorporated under Internal Revenue Service Code Section 501(c)(4) that engage in lobbying activities are not eligible to receive Federal funds and grants.

2. Administrative Standards and Provisions

Except as specifically provided, DOL/ETA acceptance of a proposal and an award of Federal funds to sponsor any program(s) does not provide a waiver of any grant requirements and/or procedures. For example, the OMB circulars require, and an entity's procurement procedures must require, that all procurement transactions will be conducted, as practical, to provide full and open competition. If a proposal identifies a specific entity to provide the services, the DOL/ETA award does not provide the justification or basis to sole-source the procurement, i.e., avoid competition, unless the activity is regarded as the primary work of an official partner to the application.

C. Reporting and Accountability

Quarterly financial reports, quarterly progress reports, and MIS data will be submitted by the grantee electronically. Grantees must agree to meet DOL reporting requirements. The grantee is required to provide the reports and documents listed below:

The grantee is required to provide the reports and documentation listed below.

• Quarterly Financial Reports. A Quarterly Financial Status Report (ETA 9130) is required until such time as all funds have been expended or the grant period has expired. Quarterly reports are due 45 days after the end of each calendar year quarter. Grantees must use DOL ETA's On-Line Electronic Reporting System. A Closeout Financial Status Report is due 90 days after the end of the grant period.

• Quarterly Progress Reports. The grantee must submit a quarterly progress report to the designated Federal Project Officer within 45 days after the end of each calendar year quarter. Two copies must be submitted providing a detailed account of activities undertaken during that quarter. DOL ETA may require grantees to collect and report additional data elements on either a regular basis or special request basis. Grantees must agree to meet DOL ETA reporting requirements. The quarterly progress report will be in narrative form and must include:

—In-depth information on accomplishments, including project success stories, upcoming grant activities, and promising approaches and processes

—Progress toward meeting performance outcomes

—Challenges being faced by the grantee in implementing the project.

In addition, between scheduled reporting dates, the grantee(s) must immediately inform the designated Federal Project Officer of significant developments affecting the ability to accomplish the work. Applicants must be aware of Federal guidelines on record retention, which require grantees to maintain all records pertaining to grant activities for a period of not less than three years from the time of final grant close-out.

VII. Agency Contacts

For further information regarding this SGA, please contact Eileen Banks, Grants Management Specialist, Division of Federal Assistance, at (202) 693-3401 (please note this is not a toll-free number). Applicants should fax all technical questions to (202) 693-2879 and must specifically address the fax to the attention of Eileen Banks and along with SGA-DFA-PY-10-01, a contact name, fax and phone number, and an e-mail address. Applicants may also e-mail questions to banks.eileen@dol.gov, and include a contact name, fax and phone number, and the applicable e-mail address.

VIII. Additional Resources of Interest to Applicants

A. DOL Web-Based Resources for the Applicant

DOL maintains a number of web-based resources that may be of assistance to applicants. These include Workforce3One Resources. For example, the Disability and Employment Workforce3one Web site, http://disability.workforce3one.org provides disability and employment resources for the workforce investment system, including promising practices to promote the positive employment outcomes of persons with disabilities and Disability Program Navigator (DPN) successful strategies and promising practices. ETA encourages applicants to view the online tutorial, “Grant Applications 101: A Plain English Guide to ETA Competitive Grants,” available through Workforce3One at: http://www.workforce3one.org/page/grants_toolkit. In addition to ODEP's web-based resources noted in other parts of this SGA, applicants may find additional helpful information on disability and employment issues at: http://www.dol.gov/odep.

B. External Web-Based Resource

Applicants will find additional information on the DPN initiative at http://www.dpnavigator.net/. The purpose of this Web site is to build upon the DPN experience and archive materials from the past seven years of DPN training and technical assistance activities.

C. Other Information

OMB Information Collection No. 1225-0086. Expires November 30, 2012

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, to the attention of Departmental Clearance Officer, 200 Constitution Avenue, NW., Room N-1310, Washington, DC 20210. Comments may also be e-mailed to DOL_PRA_PUBLIC@dol.gov. Please do not return the completed application to this address. Send it to the sponsoring agency as specified in this solicitation.

This information is being collected for the purpose of awarding a grant. The information collected through this SGA will be used by the Department to ensure that grants are awarded to the applicant best suited to perform the functions of the grant. Submission of this information is required in order for the applicant to be considered for award of this grant. Unless otherwise specifically noted in this announcement, information submitted in the respondent's application is not considered to be confidential, and will be available to the public. Applications filed in response to this SGA may be posted on the Department's Web site.

Signed at Washington, DC, this 4th day of August, 2010.
B. Jai Johnson,
Grant Officer, Employment and Training Administration.

[FR Doc. 2010-19602 Filed 8-6-10; 8:45 am]

BILLING CODE 4510-FN-P